DEPARTMENT OF THE INTERIOR

Office of the Secretary

Agency Information Collection Activities: Submission to OMB for Extension of Collection #1093-0004; Comment Request

AGENCY: Office of the Secretary (OS), Interior.

ACTION: Notice of submission to OMB of a request for extension of an information collection (1093-0004) and request for public comments.

SUMMARY: To comply with the Paperwork Reduction Act of 1995 (PRA), we are inviting comments on a collection of information that the Office of Management and Budget (OMB) approved on an emergency basis on June 24, 2003, and that we have submitted to OMB for review and approval as a continuing information collection. The information collection request (ICR) concerns the paperwork requirements to carry out the national awards program required by the Take Pride In America Program Act, 16 U.S.C. 4601-4608.

DATES: OMB has up to 60 days to approve or disapprove the information collection request, but may respond after 30 days. Therefore, public comments should be submitted to OMB by January 30, 2004, in order to be assured of consideration.

ADDRESSES: Please submit your comments via e-mail to the Desk Officer for the Department of the Interior, OMB Office of Information and Regulatory Affairs, at OIRA_Docket@omb.eop.gov or via fax at (202) 395-6566. Also, please hand-carry or mail a copy of your comments to the Department of the Interior, Office of the Secretary, Take Pride In America Program, MS-3459, 1849 C Street, NW, Washington, DC 20240, or e-mail a copy to TakePride@ios.doi.gov. Reference “Information Collection 1093-0004” in your e-mail subject line and mark your message for return receipt. Include your name and return address in your message.

FOR FURTHER INFORMATION CONTACT: To request a free copy of the information collection request or for further information about this collection, contact Marti Allbright, Executive Director, Take Pride In America Program, at 202-208-5848 or via e-mail at TakePride@ios.doi.gov.

SUPPLEMENTARY INFORMATION: Title: Take Pride In America National Awards Application/Nomination Process.

OMB Control Number: 1093-0004.

Abstract: Under the Take Pride In America Program Act (Act), 16 U.S.C. Sec. 4601-4608, the Secretary of the Interior is to: (1) “conduct a national awards program to honor those individuals and entities which, in the opinion of the Secretary * * * have distinguished themselves in activities” under the purposes of the Act; and also to (2) “establish and maintain a public awareness campaign in cooperation with public and private organizations and individuals—(A) to instill in the public the importance of the appropriate use of, and appreciation for Federal, State, and local lands, facilities, and natural and cultural resources; (B) to encourage an attitude of stewardship and responsibility toward these lands, facilities, and resources; and (C) to promote participation by individuals, organizations, and communities of a conservation ethic in caring for these lands, facilities, and resources.” The Act states that “[t]he Secretary is authorized * * * generally to do any and all lawful acts necessary or appropriate to further the purposes of the TPIA Program.”

The Take Pride In America (TPIA) Program was re-launched on April 16, 2003. The Program collects information provided voluntarily by individuals or organizations about their events and activities to further the purposes of the Act in order to select finalists and winners of the annual Take Pride In America National Awards. The TPIA National Awards recognize the valuable and significant contributions that individuals and organizations make in support of the stewardship of America's lands. Their tireless and creative efforts play a vital role in protecting, conserving, and enhancing America's wealth of natural, historical, and cultural resources. These awards recognize the efforts of individuals and organizations in both the public and private sectors for outstanding stewardship involving Federal, State, local, Tribal, and private lands.

We use the information collected primarily to select finalists and winners of the TPIA National Awards. Information also is used to assure the integrity of the Program (so that, for example, an individual or organization does not receive an award twice for the same project), for reporting on the accomplishments of the Program, for the public awareness campaign (such as press releases and website information on winning projects), and to further the purposes of the Act (such as fostering partnerships and coordination of projects).

OMB approved TPIA's application instructions and form on June 24, 2003, on an emergency basis, with an expiration date of December 31, 2003. To obtain a copy of the approved application instructions and form, please contact the TPIA office as shown in the FOR FURTHER INFORMATION CONTACT section of this notice.

No items of a sensitive nature are collected. Responses are voluntary.

A Federal agency may not conduct or sponsor, and a person is not required to respond to, a collection of information unless it displays a currently valid OMB control number. As required under 5 CFR 1320.8(d), we published a Federal Register notice soliciting comments on this collection of information on July 23, 2003 (68 FR 43540). We received no comments. This notice provides the public with an additional 30 days to comment.

Frequency of collection: Primarily annually.

Estimated Annual Number and Description of Respondents: Approximately 500 voluntary responses from the public, with another 500 from Federal employees.

Estimated Reporting and Recordkeeping “Hour” Burden: The currently approved annual reporting burden for this collection is 250 hours—one hour per response for an estimated 250 public respondents. For this ICR, that burden will increase to 500 hours due to an increase in the estimated number of public respondents.

Estimated Reporting and Recordkeeping “Non-Hour Cost” Burden: We have identified no non-hour burdens for this collection.

Comments: We specifically request your comments as to: (a) Whether the proposed collection of information is necessary for the agency to perform its duties, including whether the information is useful; (b) the accuracy of the agency's estimate of the burden of the proposed collection of information; (c) the quality, usefulness, and clarity of the information to be collected; and (d) how to minimize the burden on the respondents, including the use of automated collection techniques or other forms of information technology.

Dated: December 23, 2003.
Marti Allbright,
Executive Director, Take Pride In America Program.

[FR Doc. 03-32144 Filed 12-30-03; 8:45 am]

BILLING CODE 4310-RK-P